DEPARTMENT OF LABOR

Office of the Secretary

Agency Information Collection Activities; Submission for OMB Review; Comment Request; Establishing Paid Sick Leave for Federal Contractors

ACTION: Notice of availability; request for comments.

SUMMARY: The Department of Labor (DOL) is submitting the Wage and Hour Division (WHD) sponsored information collection request (ICR) titled, “Establishing Paid Sick Leave for Federal Contractors” to the Office of Management and Budget (OMB) for review and approval for continued use, without change, in accordance with the Paperwork Reduction Act of 1995 (PRA). Public comments on the ICR are invited.

DATES: The OMB will consider all written comments that agency receives on or before January 21, 2020.

ADDRESSES: A copy of this ICR with applicable supporting documentation; including a description of the likely respondents, proposed frequency of response, and estimated total burden may be obtained free of charge from the RegInfo.gov website at http://www.reginfo.gov/public/do/PRAViewICR?ref_nbr=201909-1235-002 (this link will only become active on the day following publication of this notice) or by contacting Frederick Licari by telephone at 202-693-8073, TTY 202-693-8064, (these are not toll-free numbers) or by email at DOL_PRA_PUBLIC@dol.gov.

Submit comments about this request by mail to the Office of Information and Regulatory Affairs, Attn: OMB Desk Officer for DOL-WHD, Office of Management and Budget, Room 10235, 725 17th Street NW, Washington, DC 20503; by Fax: 202-395-5806 (this is not a toll-free number); or by email: OIRA_submission@omb.eop.gov. Commenters are encouraged, but not required, to send a courtesy copy of any comments by mail or courier to the U.S. Department of Labor—OASAM, Office of the Chief Information Officer, Attn: Departmental Information Compliance Management Program, Room N1301, 200 Constitution Avenue NW, Washington, DC 20210; or by email: DOL_PRA_PUBLIC@dol.gov.

FOR FURTHER INFORMATION CONTACT: Frederick Licari by telephone at 202-693-8073, TTY 202-693-8064, (these are not toll-free numbers) or by email at DOL_PRA_PUBLIC@dol.gov.

SUPPLEMENTARY INFORMATION: This ICR seeks to extend PRA authority for the Establishing Paid Sick Leave for Federal Contractors information collection. Please note that the 60-day Federal Register Notice proposed respondent burden and cost amounts were found to be underestimated. DOL is presenting the revised respondent burden and cost amounts below in the appropriate sections.

On September 7, 2015, President Barack Obama signed Executive Order 13706 (80 FR 54697, September 10, 2015). The Executive Order established paid sick leave for Federal Contractors. Executive Order 13706 stated that the Federal Government's procurement interests in efficiency and cost savings are promoted when the Federal Government contracts with sources that ensure workers on those contracts can earn paid sick leave. The Executive Order therefore required parties who contract with the Federal Government to provide their employees with up to seven days of paid sick time annually, including paid time allowing for family care. The Final Rule established standards and procedures for implementing and enforcing the paid sick leave requirements of Executive Order 13706. As required by the Order, the Final Rule incorporated, to the extent practicable, existing definitions, procedures, remedies, and enforcement processes under the Fair Labor Standards Act, the McNamara-O'Hara Service Contract Act, the Davis-Bacon Act, the Family and Medical Leave Act, the Violence Against Women Act, and Executive Order 13658, Establishing a Minimum Wage for Contractors.

Among other requirements, the regulations require employers subject to the Order to make and maintain records for notifications to employees on leave accrual and requests to use paid sick leave, dates and amounts of paid sick leave used, written responses to requests to use paid sick leave, records relating to certification and documentation where an employer requires this from an employee using at least three consecutive days of leave, tracking of or calculations related to an employee's accrual or use of paid sick leave, the relevant covered contract, pay and benefits provided to an employee using leave, and any financial payment for unused sick leave made to an employee on separation from employment.

This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6. The DOL obtains OMB approval for this information collection under Control Number 1235-0029.

OMB authorization for an ICR cannot be for more than three (3) years without renewal and the current approval for this collection will expire on December 31, 2019. The DOL seeks to extend PRA authorization for this information collection for three (3) more years, without any change to existing requirements. The DOL notes that existing information collection requirements submitted to the OMB receive a month-to-month extension while they undergo review. For additional substantive information about this ICR, see the related notice published in the Federal Register on May 22, 2019 (84 FR 23586).

Interested parties are encouraged to send comments to the OMB, Office of Information and Regulatory Affairs at the address shown in the ADDRESSES section within thirty (30) days of publication of this notice in the Federal Register. In order to help ensure appropriate consideration, comments should mention OMB Control Number 1235-0029. The OMB is particularly interested in comments that:

• Evaluate whether the proposed collection of information is necessary for the proper performance of the functions of the agency, including whether the information will have practical utility:

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-WHD.

Title of Collection: Establishing Paid Sick Leave for Federal Contractors.

OMB Control Number: 1235-0029.

Affected Public: Private Section: Businesses or other for-profits; not-for-profit institutions.

Total Estimated Number of Respondents: 454,067.

Total Estimated Number of Responses: 31,803,436 responses (previously presented as 1,816,268).

Total Estimated Annual Time Burden: 626,406 hours (previously presented as 30,272 hours).

Total Estimated Annual Other Costs Burden: $1,088,156.

Authority: 44 U.S.C. 3507(a)(1)(D).

Dated: December 13, 2019.
Frederick Licari,
Departmental Clearance Officer.

[FR Doc. 2019-27332 Filed 12-18-19; 8:45 am]

BILLING CODE 4510-27-P